DEPARTMENT OF EDUCATION

Submission for OMB Review; Comment Request

AGENCY: Department of Education.

SUMMARY: After processing the Free Application for Federal Student Aid (FAFSA), the Department sends FAFSA applicants a Student Aid Report (SAR). The SAR contains the results of eligibility and expected family contribution determinations, information that the student originally reported on the FAFSA, and information about the applicant's financial aid history from the Department's National Study Loan Data System. SAR recipients are expected to review the information on the SAR and (1) correct errors in the reported information, (2) update information that may have changed since filing the FAFSA, (3) verify the responses if so requested, and on the paper SAR, (4) correct illegible information, or (5) supply missing information. The Secretary of Education requests comments on the SAR that the Department proposes to use for the 2008-2009 award year.

DATES: Interested persons are invited to submit comments on or before November 13, 2007.

ADDRESSES: Written comments should be addressed to Office of Information and Regulatory Affairs, Attention: Education Desk Officer, Office of Management and Budget, 725 17th Street, NW., Room 10222, Washington, DC 20503 or via fax to (202) 395-6974.

In addition, interested persons can access this document on the Internet:

(1) Go to IFAP at http://ifap.ed.gov;

(2) Scroll to “On-Line References”;

(3) Click on “SAR/ISR Reference Materials”;

(4) Click on “By 2008-2009 Award Year”;

(5) Click on “Draft 2008-2009 Student Aid Reports (SAR) and SAR Acknowledgement Mockups are available for public comment”.

Please note that the free Adobe Acrobat Reader software, version 4.0 or greater, is necessary to view this file. This software can be downloaded for free from Adobe's Web site: http://www.adobe.com.

FOR FURTHER INFORMATION CONTACT: Individuals who use a telecommunications device for the deaf (TDD) may call the Federal Information Relay Service (FIRS) at 1-800-877-8339 between 8 a.m. and 8 p.m. Eastern time, Monday through Friday.

SUPPLEMENTARY INFORMATION: The Secretary is publishing this request for comment under the Provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register.

In addition to comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

FOR FURTHER INFORMATION CONTACT: E-mail address ICDocketMgr@ed.gov.

Dated: October 4, 2007.
Angela C. Arrington,
Leader, IC Clearance Official, Regulatory Information Management Services, Office of Management.

Federal Student Aid

Type of Review: Revision.

Title: Student Aid Report (SAR).

Frequency: Annually.

Affected Public: Individuals.

Annual Reporting and Recordkeeping Hour Burden:

Responses: 27,699,605.

Burden Hours: 5,639,472.

Abstract: The SAR is used to notify Free Application for Federal Student Aid (FAFSA) applicants of their eligibility to receive federal student aid under the student financial assistance programs authorized under Title IV of the Higher Education Act of 1965, as amended, and to provide an opportunity for applicants to correct or update the information they provided on their FAFSA.

Requests for copies of the proposed information collection request may be accessed from http://edicsweb.ed.gov, by selecting the “Browse Pending Collections” link and by clicking on link number 3426. Written requests for information should be addressed to U.S. Department of Education, 400 Maryland Avenue, SW., Potomac Center, 9th Floor, Washington, DC 20202-4700. Requests may also be electronically mailed to ICDocketMgr@ed.gov or faxed to (202) 245-6623. Please specify the complete title of the information collection when making your request. Comments regarding burden and/or the collection activity requirements should be directed to the e-mail address ICDocketMgr@ed.gov. Individuals who use a telecommunications device for the deaf (TDD) may call the Federal Information Relay Service (FIRS) at 1-800-877-8339 between 8 a.m. and 8 p.m., Eastern time, Monday through Friday.

[FR Doc. E7-20097 Filed 10-11-07; 8:45 am]

BILLING CODE 4000-01-P